DEPARTMENT OF COMMERCE

Census Bureau

Agency Information Collection Activities; Submission to the Office of Management and Budget (OMB) for Review and Approval; Comment Request; 2022 Economic Census

AGENCY: Census Bureau, Commerce.

ACTION: Notice of information collection, request for comment.

SUMMARY: The Department of Commerce, in accordance with the Paperwork Reduction Act (PRA) of 1995, invites the general public and other Federal agencies to comment on proposed, and continuing information collections, which helps us assess the impact of our information collection requirements and minimize the public's reporting burden. The purpose of this notice is to allow for 60 days of public comment on the proposed reinstatement, with change, of the Economic Census prior to the submission of the information collection request (ICR) to OMB for approval.

DATES: To ensure consideration, comments regarding this proposed information collection must be received on or before October 26, 2021.

ADDRESSES: Interested persons are invited to submit written comments by email to Thomas.J.Smith@census.gov. Please reference 2022 Economic Census in the subject line of your comments. You may also submit comments, identified by Docket Number USBC-2021-0020, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or specific questions related to collection activities should be directed to Kimberly Moore, Chief, Economy-Wide Statistics Division, U.S. Census Bureau by phone (301) 763-7643, or by email at kimberly.p.moore@census.gov.

SUPPLEMENTARY INFORMATION:

I. Abstract

The Census Bureau is the preeminent collector and provider of timely, relevant, and quality data about the people and economy of the United States. The Economic Census, conducted under authority of Title 13 United States Code, is the U.S. Government's most comprehensive five-year measure of American business and the economy. It features the primary source of facts about the structure and functioning of the Nation's economy, comprised of the 50 states, offshore areas, and the District of Columbia (collectively referred to as Stateside) as well as Puerto Rico, Guam, the Commonwealth of the Northern Mariana Islands, the U.S. Virgin Islands, and American Samoa, (collectively referred to as Island Areas) and features unique industry and geographic detail. Economic Census statistics serve as part of the framework for the national accounts and provide essential information for government, business, and the public.

The 2022 Economic Census, both Stateside and Island Areas, covering the Agriculture; Mining; Utilities; Construction; Manufacturing; Wholesale Trade; Retail Trade; Transportation and Warehousing; Information; Finance and Insurance; Real Estate and Rental and Leasing; Professional, Scientific and Technical Services; Management of Companies and Enterprises; Administrative and Support and Waste Management and Remediation Services; Educational Services; Health Care and Social Assistance; Arts, Entertainment, and Recreation; Accommodation and Food Services; Other Services (except Public Administration) Sectors (as defined by the North American Industry Classification System (NAICS)) will measure the economic activity of nearly 8 million employer establishments. The inclusion of the Agriculture sector is new for the 2022 Economic Census and will account for Agriculture Support Activities, NAICS Industry Groups 1151 and 1152 only. The information collected from establishments in these sectors of the economic census will produce basic statistics by industry for number of establishments, value of shipments/receipts/revenue/sales, payroll, and employment. It will also yield a variety of industry-specific statistics, including materials consumed, detailed supplies and fuels consumed, electric energy consumed, depreciable assets, selected purchased services, inventories, capital expenditures, value of shipments/receipts/revenue/sales by product line as defined by the North American Product Classification System (NAPCS), type of operation, size of establishments, and other industry-specific measures.

The scope of the Island Areas component of the Economic Census is roughly equivalent to that of the Stateside component and is the only source of economic data collected for the Island Areas. While the Island Areas component collects the same sector level data as the Stateside portion, the data published are at a less detailed NAICS level with some additional exclusions.

II. Method of Collection

Establishments in the Economic Census will be selected from the Census Bureau's Business Register. The Census Bureau's Business Register provides a current and comprehensive database of U.S. business establishments and companies for statistical program use. To be eligible for selection, an establishment will be required to satisfy the following conditions: (i) It must be classified in one of the sectors listed above; (ii) it must be an active operating establishment of a multi-establishment firm (i.e., a firm that operates at more than one physical location), or it must be a single-establishment firm (i.e., a firm operating at only one physical location) with payroll; and (iii) it must be located in one of the 50 states, offshore areas, the District of Columbia, Puerto Rico, Guam, the Commonwealth of the Northern Mariana Islands, the U.S. Virgin Islands, or American Samoa. Initial contact with respondents will be a mailed letter directing them to report online. No form will be mailed except for establishments located in the Island Areas where single-establishment firms will be eligible to request a paper questionnaire. Establishments will respond using a response-driven electronic reporting instrument that includes skip patterns and will display survey paths specific to the establishment's primary business activity. The sampling procedure will distinguish the following groups of establishments for collection:

1. Establishments of Multi-Establishment Firms

Selection procedures will assign all active establishments of multi-establishment firms to the mail component of the universe, except for those in industries classified as consolidated reporters. In these selected industries, where activities are not easily attributable to individual locations or establishments, firms will be asked to report their basic data for several establishments at a nation-wide level on an electronic consolidated report path(s).

2. Single-Establishment Firms With Payroll

For the Stateside component, all single-establishment firms having 2022 payroll (from Federal administrative records) will be included in the sampling frame. We will use a NAICS-by-state stratified sample design for selecting a sample of single-establishment firms. The largest single-establishment firms (based on 2022 payroll) will be selected with certainty. Those single-establishment firms that are not selected with certainty are selected using a probability sample. Using a NAICS-by-state stratified sample should produce reliable estimates for various characteristics at detailed NAICS-by-state levels.

The remaining single-establishment firms with payroll that are not selected into the sample will be represented in the Economic Census by data from Federal administrative records, or by weighting the responses of the sampled establishments. Additionally, some of these single-establishment firms not selected into the sample may be requested to respond to a short questionnaire to verify or confirm that the establishments are classified in the correct NAICS industry.

For the Island Areas component, all single-establishment firms with payroll will be included in the Economic Census.

III. Data

OMB Control Number: 0607-0998.

Stateside Electronic Path ID(s): The paths in the electronic instrument used to collect information are tailored to specific industries or groups of industries. The Electronic Path ID's are too numerous to list individually in this notice.

Island Areas Questionnaire Number(s)/Electronic Path ID(s): The questionnaires and paths in the electronic instrument used to collect information in the Islands Areas are tailored to specific industries or groups of industries. Electronic instruments are available in English. Puerto Rico paper questionnaires are available in English as well as Spanish.

BILLING CODE 3510-07-P

Type of Review: Regular submission, Request for a Reinstatement, with Change, of a Previously Approved Collection.

Affected Public: State or local governments, businesses, or other for profit or non-profit institutions or organizations.

Estimated Number of Respondents, time per response and total annual burden:

Estimated Total Annual Cost to Public: $0. (This is not the cost of respondents' time, but the indirect costs respondents may incur for such things as purchases of specialized software or hardware needed to report, or expenditures for accounting or records maintenance services required specifically by the collection.)

Respondent's Obligation: Mandatory.

Legal Authority: Title 13 U.S.C. Section 131.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include, or summarize, each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2021-18528 Filed 8-26-21; 8:45 am]

BILLING CODE 3510-07-C